DEPARTMENT OF COMMERCE

International Trade Administration

[A-570-904]

Certain Activated Carbon from the People's Republic of China: Notice of Partial Rescission of Antidumping Duty Administrative Review

AGENCY: Import Administration, International Trade Administration, Department of Commerce.

EFFECTIVE DATE: July 2, 2009.

FOR FURTHER INFORMATION CONTACT: Catherine Bertrand, AD/CVD Operations, Office 9, Import Administration, International Trade Administration, U.S. Department of Commerce, 14th Street and Constitution Avenue, NW, Washington DC 20230; telephone-(202) 482-3207.

SUPPLEMENTARY INFORMATION:

Background

On May 29, 2009, the Department of Commerce (“Department”) published a notice of initiation of an administrative review of the antidumping duty order on certain activated carbon from the People's Republic of China (“PRC”) covering the period April 1, 2008 March 31, 2009. See Initiation of Antidumping and Countervailing Duty Administrative Reviews, 74 FR 25711 (May 29, 2009) (“Initiation”).

On June 18, 2009, Calgon Carbon Corporation and Norit Americas Inc. (“Petitioners”) withdrew their request for an administrative review for the following 155 companies: Actview Carbon Technology Co., Ltd.; Alashan Yongtai Activated Carbon Co., Ltd.; Anhui Hengyuan Trade Co., Ltd.; Baoding Activated Carbon Factory; Beijing Broad Activated Carbon Co., Ltd.; Beijing Haijian Jiechang Environmental Protection Chemicals; Beijing Hibridge Trading Co., Ltd.; Beijing Huapeng Environment Protection Materials; Benbu Jiutong Trade Co., Ltd.; Changji Hongke Activated Carbon Co., Ltd.; Chengde Jiayu Activated Carbon Factory; China National Building Materials and Equipment Import Export Corp.; China National Nuclear General Company Ningxia Activated Carbon Factory; China Nuclear Ningxia Activated Carbon Plant; Da Neng Zheng Da Activated Carbon Co., Ltd.; Datong Carbon Corporation; Datong Changtai Activated Carbon Co., Ltd.; Datong City Zuoyun County Activated Carbon Co., Ltd.; Datong Fenghua Activated Carbon; Datong Fuping Activated Carbon Co., Ltd.; Datong Hongji Coal Industry; Datong Hongtai Activated Carbon Co., Ltd.; Datong Huanqing Activated Carbon Co., Ltd.; Datong Huaxin Activated Carbon; Datong Huibao Active Carbon; Datong Huibao Activated Carbon Co., Ltd.; Datong Huiyuan Cooperative Activated Carbon Plant; Datong Kaneng Carbon Co. Ltd.; Datong Kangda Activated Carbon Factory; Datong Runmei Activated Carbon Factory; Datong Tianzhao Activated Carbon Co., Ltd.; DaTong Tri-Star & Power Carbon Plant; Datong Weidu Activated Carbon Co., Ltd.; Datong Xuanyang Activated Carbon Co. Ltd.; Datong Zuoyun Biyun Activated Carbon Co., Ltd.; Datong Zuoyun Fu Ping Activated Carbon Plant; Dezhou Jiayu Activated Carbon Factory; Dongguan Baofu Activated Carbon; Dushanzi Chemical Factory; Fangyuan Carbonization Co., Ltd.; Fu Yuan Activated Carbon Co., Ltd.; Fujian Jianyang Carbon Plant; Fujian Nanping Yuanli Activated Carbon; Fuzhou Taking Chemical; Fuzhou Yihuan Carbon; Great Bright Industrial; Hangzhou Hengxing Activated Carbon; Hangzhou Linan Tianbo Material; Hebei Shenglun Import & Export Group Company; Hegongye Ninxia Activated Carbon Factory; Heilongjiang Provincial Hechang Imp. & Exp. Co., Ltd.; Hongke Activated Carbon Co., Ltd.; Huaibei Environment Protection Material Plant; Huairen Huanyi Purifying Material; Huaiyushan Activated Carbon Tec & Sec (Zhuhai) Co., Ltd.; Huahui Activated Carbon Company Ltd.; Huatai Activated Carbon; Huaxin Active Carbon Plant; Huzhou Zhonglin Activated Carbon; Hz Hengxing Activated Carbon Co.; Inner Mongolia Taixi Coal Chemical Industry Limited Company; Itigi Corp. Ltd.; J&D Activated Carbon Filter Co., Ltd.; Jiangle County Xinhua Activated Carbon Co., Ltd.; Jiangxi Hansom Import Export Co.; Jiangxi Huaiyushan Activated Carbon; Jiangxi Jinma Carbon; Jianou Zhixing Activated Carbon; Jiaocheng Xinxin Purification Material Co., Ltd.; Jilin Goodwill Activated Carbon Plant; Jing Mao (Dongguan) Activated Carbon Co., Ltd.; Jx Huaiyushan Activated Carbon Group Co.; Jx Huaiyushan Suntar Active Carbon; Kaihua Xingda Chemical Co., Ltd.; Kaihua Xinghua Chemical Plant; Kemflo (Nanjing) Environmental Tech; Kunshan Actview Carbon Technology; Langfang Winfield Filtration Co.; Link Link Shipping Limited; Longyan Wanan Activated Carbon; Mindong Lianyi Group; Nanjing Mulinsen Charcoal; Nantong Ameriasia Advanced Activated Carbon Product Co., Ltd.; Ningxia Baota Active Carbon Plant; Ningxia Baota Activated Carbon Co., Ltd.; Ningxia Blue-White-Black Activated Carbon; Ningxia Fengyuan Activated Carbon Co., Ltd.; Ningxia Guanghua A/C Co., Ltd.; Ningxia Guanghua Activated Carbon Co., Ltd.; Ningxia Guanghua Chemical Activated Carbon Co., Ltd.; Ningxia Haoqing Activated Carbon Co., Ltd.; Ningxia Henghui Activated Carbon; Ningxia Honghua Carbon Industrial Corporation; Ningxia Huinong Xingsheng Activated Carbon Co., Ltd.; Ningxia Jirui Activated Carbon; Ningxia Luyuangheng Activated Carbon Co., Ltd.; Ningxia Pingluo County Yaofu Activated Carbon Plant; Ningxia Pingluo County Yaofu Activated Carbon Factory; Ningxia Pingluo Xuanzhong Activated Carbon Co., Ltd.; Ningxia Pingluo Yaofu Activated Carbon Factory; Ningxia Taixi Activated Carbon; Ningxia Tianfu Activated Carbon Co., Ltd.; Ningxia Tongfu Coking Co., Ltd.; Ningxia Weining Active Carbon Co., Ltd.; Ningxia Xingsheng Coal and Active Carbon Co., Ltd.; Ningxia Xingsheng Coke and Activated Carbon; Ningxia Yinchuan Lanqiya Activated Carbon Co., Ltd.; Ningxia Yirong Alloy Iron Co., Ltd.; Ningxia Zhengyuan Activated; OEC Logistic Qingdao Co., Ltd.; Panshan Import and Export Corporation; Pingluo Xuanzhong Activated Carbon Co., Ltd.; Shanghai Activated Carbon Co. Ltd.; Shanghai Coking and Chemical Corporation; Shanghai Goldenbridge International; Shanghai Jiayu International Trading Co. Ltd.; Shanghai Jinhu Activated Carbon; Shanghai Mebao Activated Carbon; Shanhai Xingchang Activated Carbon; Shanxi Blue Sky Purification Material Co., Ltd.; Shanxi Qixian Hongkai Active Carbon Goods; Shanxi Supply and Marketing Cooperative; Shanxi Tianli Ruihai Enterprise Co.; Shanxi Xiaoyi Huanyu Chemicals Co., Ltd.; Shanxi Xinhua Activated Carbon Co., Ltd.; Shanxi Xinhua Chemical Co., Ltd.; Shanxi Xinhua Chemical Factory; Shanxi Xinhua Protective Equipment; Shanxi Xinshidai Imp. Exp. Co., Ltd.; Shanxi Zuoyun Yunpeng Coal Chemistry; Shenzhen Sihaiweilong Technology Co.; Sincere Carbon Industrial Co., Ltd.; Taining Jinhu Carbon; Tianchang (Tianjin) Activated Carbon; Tonghua Bright Future Activated Carbon Plant; Tonghua Xinpeng Activated Carbon Factory; Valqua Seal Products (Shanghai) Co; Wellink Chemical Industry; Xi Li Activated Carbon Co., Ltd.; Xiamen All Carbon Corporation; Xingan County Shenxin Activated Carbon Factory; Xinhua Chemical Company Ltd.; Xinyuan Carbon; Xuanzhong Chemical Industry; Yangyuan Hengchang Active Carbon; Yicheng Logistics; Yinchuan Lanqiya Activated Carbon Co., Ltd.; Yinyuan Carbon; YunGuan Chemical Factory; Yuanguang Activated Carbon Co., Ltd.; Yuyang Activated Carbon Co., Ltd.; Zhejiang Quizhou Zhongsen Carbon; Zhejiang Yun He Tang Co., Ltd.; Zhuxi Activated Carbon; Zuoyun Bright Future Activated Carbon Plant. The Petitioners were the only party to request a review of these companies.

Partial Rescission

Pursuant to 19 CFR 351.213(d)(1), the Secretary will rescind an administrative review, in whole or in part, if a party who requested the review withdraws the request within 90 days of the date of publication of notice of initiation of the requested review. The Petitioners' request was submitted within the 90-day period, and thus, is timely. Because the Petitioners' withdrawal of requests for review is timely and because no other party requested a review of the aforementioned companies, in accordance with 19 CFR 351.213(d)(1), we are rescinding this review with respect to the above listed companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 26, 2009.
John M. Andersen,
Acting Deputy Assistant Secretary for Antidumping and Countervailing Duty Operations.

[FR Doc. E9-15701 Filed 7-1-09; 8:45 am]

BILLING CODE 3510-DS-S